FEDERAL DEPOSIT INSURANCE CORPORATION

RIN 3064-ZA42

Request for Information on Deposits; Extension of Comment Period

AGENCY: Federal Deposit Insurance Corporation (FDIC).

ACTION: Request for information and comment; extension of comment period.

SUMMARY: On August 6, 2024, the FDIC published in the Federal Register a request for information (RFI) and comment soliciting comments on deposit data that is not currently reported in the Federal Financial Institutions Examination Council's (FFIEC) Consolidated Reports of Condition and Income (Call Report) or other regulatory reports, including for uninsured deposits. The RFI provided for a 60-day comment period, which closes on October 7, 2024. The FDIC has determined that an extension of the comment period until December 6, 2024, is appropriate. This action will allow interested parties additional time to prepare information and comments.

DATES: The comment period for the notice published on August 6, 2024 (89 FR 63946), regarding the RFI on Deposits, is extended. Comments must be received on or before December 6, 2024.

ADDRESSES: Interested parties are invited to submit written comments identified by RIN 3064-ZA42 by any of the following methods:

• Agency Website: https://www.fdic.gov/resources/regulations/federal-register-publications/. Follow the instructions for submitting comments on the agency website.

• Email: comments@fdic.gov. Include RIN 3064-ZA42 in the subject line of the message.

• Mail: James P. Sheesley, Assistant Executive Secretary, Attention: Comments-RIN 3064-ZA42, Federal Deposit Insurance Corporation, 550 17th Street NW, Washington, DC 20429.

• Hand Delivery: Comments may be hand delivered to the guard station at the rear of the 550 17th Street NW building (located on F Street NW) on business days between 7 a.m. and 5 p.m.

• Public Inspection: Comments received, including any personal information provided, may be posted without change to https://www.fdic.gov/resources/regulations/federal-register-publications/. Commenters should submit only information that the commenter wishes to make available publicly. The FDIC may review, redact, or refrain from posting all or any portion of any comment that it may deem to be inappropriate for publication, such as irrelevant or obscene material. The FDIC may post only a single representative example of identical or substantially identical comments, and in such cases will generally identify the number of identical or substantially identical comments represented by the posted example. All comments that have been redacted, as well as those that have not been posted, that contain comments on the merits of this document will be retained in the public comment file and will be considered as required under all applicable laws. All comments may be accessible under the Freedom of Information Act.

FOR FURTHER INFORMATION CONTACT: Division of Insurance and Research: Ashley Mihalik, Associate Director, Financial Risk Management, 202-898-3793, amihalik@fdic.gov; Kayla Shoemaker, Chief, Banking and Regulatory Policy, 202-898-6962, kashoemaker@fdic.gov; Legal Division: Sheikha Kapoor, Assistant General Counsel, 202-898-3960, skapoor@fdic.gov; Vivek Khare, Senior Counsel, 202-898-6847; or Ryan McCarthy, Counsel, 202-898-7301, rymccarthy@fdic.gov.

SUPPLEMENTARY INFORMATION: On August 6, 2024, the FDIC published in the Federal Register an RFI and comment soliciting comments on deposit data that is not currently reported in the FFIEC Call Report or other regulatory reports, including for uninsured deposits. The FDIC issued the RFI to seek information on the characteristics that affect the stability and franchise value of different types of deposits and whether more detailed or more frequent reporting on these characteristics or types of deposits could enhance offsite risk and liquidity monitoring, inform analysis of the benefits and costs associated with additional deposit insurance coverage for certain types of deposits, improve risk sensitivity in deposit insurance pricing, and provide analysts and the general public with accurate and transparent data. The RFI stated that the comment period would close on October 7, 2024. The FDIC has received requests to extend the comment period. An extension of the comment period will allow interested parties additional time to prepare information and comments. Therefore, the FDIC is extending the end of the comment period for the RFI from October 7, 2024, to December 6, 2024.

Federal Deposit Insurance Corporation.
Dated at Washington, DC, on October 1, 2024.
James P. Sheesley,
Assistant Executive Secretary.

[FR Doc. 2024-23010 Filed 10-3-24; 8:45 am]

BILLING CODE 6714-01-P